DEPARTMENT OF TRANSPORTATION

Federal Railroad Administration

[Docket Number FRA-2002-11669]

Petition for Waiver of Compliance

In accordance with Part 211 of Title 49 Code of Federal Regulations (CFR), this document provides the public notice that by a document dated March 26, 2012, the Southern Indiana Railway (SIND) of Sellersburg, IN, has petitioned the Federal Railroad Administration (FRA) for a waiver of compliance from certain provisions of the Federal railroad safety regulations contained at 49 CFR part 223 (Safety Glazing Standards—Locomotives, Passenger Cars and Cabooses). FRA assigned the petition Docket Number FRA-2002-11669.

SIND has petitioned for a permanent waiver of compliance for two locomotives, SIND 103 and SIND 104, from the requirements of 49 CFR 223.11—Requirements for existing locomotives, which requires FRA Type I material in the forward and rearward end-facing glazing locations of the locomotive cab windshields as well as FRA Type II material in all side-facing windows of the locomotive cabs. Each locomotive is a Model S-3, built by the American Locomotive Company in 1950. Both locomotives were rebuilt in 1988. SIND states that it operates one train per day, over a 5-mile-long single track through mostly rural or lightly populated areas, to interchange with CSX Transportation and the Louisville and Indiana Railway for inbounds and outbounds. SIND further states that it has never had any employee injuries caused by broken locomotive glass. SIND describes the current glazing as single-pane safety plate glass in good condition. SIND is requesting this relief on account of the absence of history of any previous glazing-related accidents or injuries.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 25, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 2, 2013
Robert C. Lauby,
Deputy Associate Administrator for Regulatory and Legislative Operations.

[FR Doc. 2013-00224 Filed 1-8-13; 8:45 am]

BILLING CODE 4910-06-P